SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: December 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects, described below, pursuant to 18 CFR part 806, subpart E, for the time period specified above:

1. Pennsylvania Fish & Boat Commission—Cooperative Hatcheries and Nurseries, GF Certificate No. GF-202412282, various municipalities and counties, Pa.; see Addendum; Reissue Date: December 12, 2024.

2. New Enterprise Stone & Lime Co., Inc.—Roaring Spring Quarry, GF Certificate No. GF-202412283, Taylor Township, Blair County, Pa.; Quarry Sump, Halter Creek 1, Well 1, Well 2, and Well 3 (M4); Reissue Date: December 12, 2024.

3. Dover Township—Public Water Supply System, GF Certificate No. GF-202412284, Dover Township, York County, Pa.; Wells 2, 3, 4, 5, and 6; Reissue Date: December 26, 2024.

4. Tallman Family Farms, L.L.C., GF Certificate No. GF-202412285, Porter Township, Schuylkill County, Pa.; Wiconisco Creek #2, Bohr Pond, and Wiconisco Creek GET ZIM; Reissue Date: December 26, 2024.

5. Heidelberg Materials Northeast LLC—Oak Hall Quarry, GF Certificate No. GF-202412286, College Township, Centre County, Pa.; Well 1; Issue Date: December 27, 2024.

Authority: Public Law 91-575, 84 Stat. 1509 et seq., 18 CFR parts 806 and 808.

Dated: January 14, 2025.
Jason E. Oyler,
General Counsel and Secretary to the Commission.

[FR Doc. 2025-01253 Filed 1-17-25; 8:45 am]

BILLING CODE 7040-01-P